DEPARTMENT OF TRANSPORTATION

Federal Motor Carrier Safety Administration

[Docket No. FMCSA-2010-0167]

RIN 2126-AB20

Electronic Logging Devices and Hours of Service Supporting Documents; Research Report on Attitudes of Truck Drivers and Carriers on the Use of Electronic Logging Devices and Driver Harassment

AGENCY: Federal Motor Carrier Safety Administration (FMCSA), DOT.

ACTION: Notice of Availability of Research Report.

SUMMARY: On March 28, 2014, the Federal Motor Carrier Safety Administration (FMCSA) published a Supplemental Notice of Proposed Rulemaking (SNPRM) that proposed amendments to the Federal Motor Carrier Safety Regulations (FMCSRs) to establish: Minimum performance and design standards for hours-of-service (HOS) electronic logging devices (ELDs); requirements for the mandatory use of these devices by drivers currently required to prepare HOS records of duty status (RODS); requirements concerning HOS supporting documents; and measures to address concerns about harassment resulting from the mandatory use of ELDs. FMCSA announces the availability of a new report: “Attitudes of Truck Drivers and Carriers on the Use of Electronic Logging Devices and Driver Harassment.” This project surveyed drivers on their attitudes regarding carrier harassment and examined whether reported harassment experiences varied due to the hours-of-service logging method used by the driver. The survey is an effort to further address the potential for harassment associated with ELDs and provides results that are consistent with the Agency's discussion of harassment in the ELD SNPRM. A copy of the report has been placed in the docket referenced at the beginning of this notice.

DATES: Comments must be received by December 15, 2014.

ADDRESSES: You may submit comments identified by Docket Number FMCSA-2010-0167 addressing the Research Report using any of the following methods:

• Federal eRulemaking Portal: Go to www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., ET, Monday through Friday, except Federal Holidays.

• Fax: 1-202-493-2251.

To avoid duplication, please use only one of these four methods. See the “Public Participation and Request for Comments” portion of the SUPPLEMENTARY INFORMATION section for instructions on submitting comments.

FOR FURTHER INFORMATION CONTACT: For information concerning this report, please contact Mr. Albert Alvarez, Research Division of the Office of Analysis, Research, and Technology, Federal Motor Carrier Safety Administration, 1200 New Jersey Avenue SE., Washington, DC 20590-0001 or by telephone at 202-385-2377.

SUPPLEMENTARY INFORMATION:

I. Public Participation and Request for Comments

FMCSA encourages you to participate by submitting comments and related materials pertaining to the report. This notice does not extend the earlier comment period pertaining to the ELD SNPRM published March 28, 2104.

Submitting Comments

If you submit a comment, please include the docket number for this notice (FMCSA-2010-0167), indicate the specific section of the report to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number, “FMCSA-2010-0167” in the “Keyword” box, and click “Search.” When the new screen appears, click on “Comment Now!” button and type your comment into the text box in the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period pertaining to the report.

Viewing Comments and Documents

To view comments, as well as other documents available in the docket, go to http://www.regulations.gov and insert the docket number, “FMCSA-2010-0167” in the “Keyword” box and click “Search.” Next, click the “Open Docket Folder” button and choose the document listed to review. If you do not have access to the Internet, you may view the docket online by visiting the Docket Management Facility in Room W12-140 on the ground floor of the DOT West Building, 1200 New Jersey Avenue SE., Washington, DC 20590, between 9 a.m. and 5 p.m. Monday through Friday, except Federal holidays.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. The Research Report

This research report, titled, “Attitudes of Truck Drivers and Carriers on the Use of Electronic Logging Devices and Driver Harassment,” examines the nature of harassment as viewed by truck drivers who are required to record their hours of service for the purposes of Federal reporting regulations. As it examines their perceptions, this research also reviews:

• Whether drivers' experiences and interactions with their carriers fall into the category of harassment.

• If these experiences occur with any regularity (once or twice a month or more).

• Whether these interactions are made possible as a result of the carrier using HOS data collected via an ELD and whether it was a standalone ELD or part of a comprehensive system that included ELD capability.

These experiences and perceptions are reviewed both for truck drivers and for carrier personnel who manage truck drivers. The data collected from carrier personnel is similar to that collected from the drivers; that is, carriers were asked about the regularity of specific interactions with drivers at their firm, and whether the drivers might consider such actions (if they occur) harassment.

Drivers are analyzed according to the systems they used for logging their HOS (i.e., paper or ELD). Carrier personnel are also considered according to the primary HOS logging method used by their company.

Additional data was collected regarding attitudes about ELDs, reactions to definitions of harassment and coercion developed by the FMCSA, ways in which drivers are compensated and evaluated, and profiles of both the drivers and the carrier companies.

For the complete report, visit docket number FMCSA-2010-0167 or http://www.fmcsa.dot.gov/safety/research-and-analysis/publications.

Issued on: November 5, 2014.
G. Kelly Regal,
Associate Administrator, Office of Research and Information Technology and Chief Information Officer.

[FR Doc. 2014-26851 Filed 11-12-14; 8:45 am]

BILLING CODE 4910-EX-P